DEPARTMENT OF ENERGY

[Docket No. PP-304]

Record of Decision and Floodplain Statement of Findings; Generadora del Desierto SA de C.V. (GDD) San Luis Rio Colorado (SLRC) Project

AGENCY: Office of Electricity Delivery and Energy Reliability (OE), Department of Energy (DOE).

ACTION: Record of Decision (ROD) and Floodplain Statement of Findings.

SUMMARY: DOE announces its decision to issue a Presidential Permit that would authorize Generadora del Desierto SA de C.V. (GDD) to construct, operate, maintain, and connect a new double-circuit 230,000-volt (230-kV) electric transmission line across the U.S.-Mexico border into Yuma County, southeast of San Luis, Arizona. The environmental impacts that would be associated with the line were analyzed in the Environmental Impact Statement (EIS) for the San Luis Rio Colorado Project (DOE/EIS-0395, SLRC EIS). The transmission line, known as the San Luis Rio Colorado (SLRC) Project, would extend from a new gas-fired electric power plant, known as the SLRC Power Center (to be constructed by GDD approximately one mile south of the U.S.-Mexico border in San Luis Rio Colorado, Sonora, Mexico), cross the U.S.-Mexico border, extend approximately 21 miles north, and connect to the existing Gila Substation that is owned and operated by the Western Area Power Administration (Western), an organizational element within DOE. From the Gila Substation, the line would extend an additional five miles north and connect to the existing North Gila Substation that is owned and operated by the Arizona Public Service Company (APS).

In reaching this decision, DOE considered the low environmental impacts in the United States from constructing, operating, maintaining, and connecting the proposed international transmission line and from the construction and operation of the SLRC Power Center, the absence of adverse impacts to the reliability of the U.S. electric power supply system, and the absence of major issues of concern to the public. On October 12, 2007, Western issued a ROD (72 FR 58074) in which it decided to allow the proposed international transmission line and the SLRC Power Center to interconnect with Western's transmission system at the Gila Substation.

DOE has prepared this ROD and Floodplain Statement of Findings in accordance with the regulations of the Council on Environmental Quality (40 CFR Parts 1500-1508) for implementing the National Environmental Policy Act (NEPA), DOE's NEPA Implementing Procedures (10 CFR Part 1021), and DOE's Compliance with Floodplain and Wetland Environmental Review Requirements (10 CFR Part 1022).

ADDRESSES: The Final EIS is available from Western and can be requested on its Web site at http://www.wapa.gov/transmission/intersanluis.htm. The Western ROD is available on the Western Web site at http://www.wapa.gov/fedreg/FRNpdfs/frn2007/72FR58074.pdf and on the DOE NEPA Web site at http://www.eh.doe.gov/nepa/pub_rods_toc.html. This OE ROD also will be available on both the Western Web site and the DOE NEPA Web site. This ROD may be requested by contacting Dr. Jerry Pell, Project Manager, Office of Electricity Delivery and Energy Reliability, U.S. Department of Energy, OE-20, 1000 Independence Avenue, SW., Washington, DC 20585, by telephone at 202-586-3362, by facsimile at 202-586-8008, or at Jerry.Pell@hq.doe.gov.

FOR FURTHER INFORMATION CONTACT: For further information on the SLRC EIS, contact Dr. Jerry Pell as indicated in the ADDRESSES section above, or Mr. John Holt, Environmental Manager, Desert Southwest Customer Service Region, Western Area Power Administration, P.O. Box 6457, Phoenix, AZ 85005, by telephone at 602-605-2592, or at holt@wapa.gov. Copies of the EIS also are available from Mr. Holt. For general information on the DOE NEPA process, contact Ms. Carol Borgstrom, Director, Office of NEPA Policy and Compliance, GC-20, U.S. Department of Energy, 1000 Independence Avenue, SW., Washington, DC 20585, by telephone at 202-586-4600, or leave a message at 800-472-2756.

SUPPLEMENTARY INFORMATION: Western and OE are the lead DOE offices responsible for the SLRC EIS. The U.S. Department of the Navy (acting through the U.S. Marine Corps Air Station Yuma), the Bureau of Land Management (BLM),¹ the Bureau of Reclamation (BOR), and the City of Yuma, Arizona, are cooperating agencies. Western is the lead office for complying with Section 106 of the National Historic Preservation Act (NHPA), 16 U.S.C. Section 1531, and for complying with Section 7 of the Endangered Species Act, as amended, 16 U.S.C. 1536(a)(2).

¹ Although BLM does not have a Federal action it must take for the proposed project to be implemented, BLM is participating as a cooperating agency because of its special expertise with respect to environmental impacts in a flat-tailed horned lizard management area, part of which would be crossed by any of the action alternatives.

Background

Executive Order (E.O.) 10485 (September 9, 1953), as amended by E.O. 12038 (February 7, 1978), requires that a Presidential Permit be issued by DOE before electric transmission facilities may be constructed, operated, maintained, or connected at the U.S. international border.² DOE may issue or amend a permit if it determines that the permit is in the public interest and after obtaining favorable recommendations from the U.S. Departments of State and Defense. In determining whether issuance of a permit for a proposed action is in the public interest, DOE considers the environmental impacts of the proposed project pursuant to NEPA, determines the project's impact on electric reliability by ascertaining whether the proposed project would adversely affect the operation of the U.S. electric power supply system under normal and contingency conditions, and considers any other factors that DOE believes are relevant to the public interest.

² The authority to administer the International Electricity Regulatory Program through the regulation of electricity exports and the issuance of Presidential Permits has been delegated to the Assistant Secretary of OE in Redelegation Order No. 00-002.10C issued on May 29, 2008.

On September 23, 2005, GDD, a Mexican corporation and wholly owned affiliate of North Branch Holding, LLC, a Delaware limited liability company, filed an application with DOE for a Presidential Permit. GDD proposed to construct a double-circuit 500-kilovolt (500-kV) electric transmission line across the U.S.-Mexico border that would extend from a new gas-fired electric power plant to be built by GDD approximately one mile south of the U.S.-Mexico border in San Luis Rio Colorado, Sonora, Mexico; cross the U.S.-Mexico border into Yuma County, southeast of San Luis, Arizona; extend approximately 21 miles north; and connect to the existing Gila Substation owned and operated by Western. From the Gila Substation, the line would extend an additional five miles north and connect to the existing North Gila Substation owned and operated by APS. DOE published a notice of the application for a Presidential Permit in the Federal Register on March 20, 2006 (71 FR 13970).

In a related proceeding, North Branch Resources, LLC (NBR), also a wholly owned subsidiary of North Branch Holding, LLC, has applied to Western to connect the proposed international transmission line and the SLRC Power Center to Western's transmission system. (GDD and NBR are referred to, collectively, as the “Applicants” in this ROD.) Relying on the SLRC EIS, on October 12, 2007 (72 FR 58074), Western issued a ROD allowing the proposed international transmission line and the SLRC Power Center to interconnect with Western's transmission system.

NEPA Review

Given the length of the transmission line proposed for the United States, DOE determined that issuing a Presidential Permit, as requested by GDD, and authorizing the interconnection to the Western transmission system, as requested by NBR, would likely constitute major Federal actions that could significantly affect the quality of the human environment within the meaning of NEPA (Pub. L. 91-190, as amended). Experience with proposed transmission line projects of a similar nature has indicated the probability of significant environmental impacts that would appropriately be analyzed in an EIS. For this reason, DOE prepared an EIS to address potential environmental impacts from a range of reasonable alternatives that would satisfy DOE's purpose and need. DOE also examined a No Action alternative. On February 10, 2006, DOE published in the Federal Register (71 FR 7033) a Notice of Intent (NOI) to prepare an EIS and to hold public scoping meetings in Yuma and San Luis. DOE also announced these meetings locally, in both English and Spanish.

On November 9, 2006, the U.S. Environmental Protection Agency (EPA) published a notice of availability of the Draft EIS in the Federal Register (71 FR 65812), which began a two-month public comment period that ended on January 10, 2007. All comments received on the Draft EIS were considered in the preparation of the Final EIS. Because the Draft EIS required only minor text changes (factual corrections and clarifications) in response to comments, the Final EIS for the proposed DOE actions consist of a Comment-Response Addendum together with the Draft EIS (40 CFR 1503.4 (c)). A notice of availability of the Final EIS was published by EPA in the Federal Register on August 3, 2007 (72 FR 43271).

Applicants' Proposed Action

In their respective applications to OE and Western, the Applicants proposed a double-circuit 500-kV transmission line that would originate at the SLRC Power Center in Sonora, Mexico, interconnect with Western's transmission system at the existing Gila Substation, and continue to APS's North Gila Substation. The Proposed Action would require expanding the Gila Substation with a 500/69-kV transformer and associated switchgear adjacent to the Substation and constructing a double-circuit 500-kV transmission line between the Gila and the North Gila Substations. All of the proposed transmission components within the United States would be located in Yuma County. In addition, modifications would be made to the North Gila Substation based on an agreement between Western and APS, and that substation would remain under the operational control of APS.

The total length of the proposed transmission line within the United States would be approximately 26 miles: 21 miles from the international border to the Gila Substation and 5 miles from the Gila Substation to the North Gila Substation. Portions of the proposed transmission line would cross private lands and lands owned and/or managed by the BOR, the U.S. Department of the Navy, and the State of Arizona. In Mexico, GDD plans to construct and operate the SLRC Power Center, a new 550-megawatt (MW) natural gas-fired, combined-cycle power plant located approximately 3 miles east of San Luis Rio Colorado, Sonora, Mexico, and about 1 mile south of the U.S.-Mexico border. This facility is not subject to U.S. regulatory requirements; however, the EIS evaluates impacts that would occur within the United States from its construction and operation.

The Alternatives

The Applicants' Proposed Action was presented at stakeholder and scoping meetings to provide a basis for discussion of issues to be considered in the EIS and to assist with identifying potential alternatives. Based on the suggestions received at those meetings, DOE identified and analyzed two additional alternatives that either responded to public issues and concerns or were directly recommended by the public. Alternatives proposed by the public were evaluated to determine whether they were consistent with the Applicants' stated purpose and need and were technically and economically feasible. Based on these criteria, DOE identified and added to its analysis a “Route Alternative” and a “230-kV Alternative,” both of which vary from the Applicants’ Proposed Action.

Route Alternative

Under the Route Alternative, the proposed transmission line would be constructed as a 500-kV line and the transmission system components would be identical to those of the Applicants' Proposed Action, but the route of the proposed transmission line would be modified. During the public meetings, commenters identified various routing options for numerous segments of the proposed transmission line. The Route Alternative was developed by combining the suggested routing segments that would avoid engineering constraints associated with existing and proposed development, including recreational vehicle (RV) and trailer parks that are encroaching upon the existing transmission line rights-of-way (ROWs) into the North Gila Substation.

230-kV Alternative

Under the 230-kV Alternative, the transmission system components would follow the route of the Applicants' Proposed Action, but be constructed to operate at 230 kV instead of 500 kV. The 230-kV Alternative would meet the Applicants' objectives to transport electric power and create additional transmission capacity in the Yuma area. This alternative would require 25 percent less ROW area and shorter, less massive support structures than a 500-kV line, and smaller substation modifications.

No Action Alternative

Under the No Action Alternative, OE would not issue the Presidential Permit and Western would not approve an interconnection agreement. In this instance, no transmission line would cross the U.S.-Mexico border; the proposed transmission lines, substation additions and modifications, and access roads within the United States would not be constructed; and the potential environmental impacts associated with their construction and operation would not occur.

The selection of the No Action Alternative would not preclude development of the SLRC Power Center. In the EIS, the Applicants state that two of their objectives are to transmit electric power from the SLRC Power Center across the border into the United States and to transmit power to the Comisión Federal de Electricidad (CFE), the national electric system in Mexico. Furthermore, correspondence from NBR dated July 22, 2008, asserts that, “ * * * if the [Presidential] permit is not granted, the [SLRC] Project would be built pursuant to the permits it has received from Mexican governmental authorities and the power output of the Project would be provided within Mexico since the cross border sale of power would not be available. The Mexican government has identified a significant need for power in the area where the Project will be built and the project would help meet this demand.” Therefore, if the Presidential Permit were not granted, as would be the case under the No Action Alternative, the SLRC Power Center would still be constructed, maintained, and operated solely for the purpose of serving electric power needs within Mexico, and impacts in the United States would be similar to those described in the EIS from the construction and operation of the SLRC Power Center, which is not subject to United States regulation because these activities would occur entirely within Mexico.

The DOE Preferred Alternative

In the Draft EIS, DOE identified the Route Alternative and the 230-kV Alternative as the environmentally preferable alternatives, and stated that its preferred alternative was a combination of these two alternatives, whereby the final project would use the route from the Route Alternative, but be constructed to 230-kV standards. The Applicants' Proposed Action was not selected as the preferred alternative in the Draft EIS because of higher impacts on flat-tailed horned lizard habitat, increased engineering constraints, and increased impacts on residential dwellers as compared to the DOE Preferred Alternative.

The DOE Preferred Alternative would include:

1. A new 21-mile, double-circuit, 230-kV transmission line constructed between the international border and Western's existing Gila Substation along the Route Alternative defined in the EIS;

2. A new 230/69-kV transformer and associated switchgear addition constructed adjacent to Gila Substation as identified in the 230-kV Alternative in the EIS;

3. A new 5-mile, double-circuit, 230-kV transmission line constructed between Gila Substation and APS' North Gila Substation along the Route Alternative defined in the EIS. (The majority of this portion of the alignment would utilize existing ROW; Western anticipates that the existing double-circuit 69-kV line would be underbuilt; i.e., placed below the new line on the same poles or towers.)

4. Modifications to North Gila Substation necessary to interconnect the 230-kV transmission lines into the substation as identified in the 230-kV Alternative in the EIS (these modifications will be made through an agreement with APS); and

5. Associated access roads, as needed.

Analysis of Environmental Impacts

This section summarizes the environmental impacts of all of the alternatives. In the discussion below, the impacts of the 230-kV Alternative are based on following the alignment in the Applicants' Proposed Action.

The only potential for adverse impacts from the No Action Alternative are those that might occur if the SLRC Power Center were constructed, maintained, and operated solely for the purpose of serving electric power needs within Mexico. Such potential impacts are identified only for water resources and air quality. Thus, the environmental impacts of the No Action Alternative are discussed only in relation to those resources.

The DOE Preferred Alternative, a 230-kV line along the alignment of the Route Alternative, would combine the favorable features of the Route Alternative and the 230-kV Alternative; overall, its impacts would be lower than those of the other action alternatives. The DOE Preferred Alternative would avoid conflicts with military aviation operations, would avoid potential impacts to the Yuma Lakes recreation area, and would meet local concerns about 500-kV transmission lines. Land requirements and impacts to biological and visual resources would be smaller than under the Applicants' Proposed Action and the other action alternatives.

Land Use and Recreation: Under all action alternatives, portions of the ROW could be shared with existing ROWs, but new ROWs would be required on BOR, State of Arizona, and private lands, and a permit would be required to cross the Barry M. Goldwater Range (BMGR). Under the 230-kV Alternative and the DOE Preferred Alternative, the 150-foot wide ROW would require 25 percent less land than needed for the 200-foot wide ROW under the Applicants' Proposed Action and the Route Alternative.

Yuma Lakes is the only recreational facility in the project area. Located southeast of the North Gila Substation, it includes RV parks and Redondo Pond, a lake used for fishing and small boats. Existing and proposed development of the RV parks is encroaching upon the existing transmission ROW. Widening the existing 230-kV ROW within Yuma Lakes for a 500-kV ROW would impact the RV parks by causing the relocation of the recreational activities that currently occur within the existing ROW. However, this is not considered to be a significant impact because the recreational activities could occur within other areas of Yuma Lakes. The DOE Preferred Alternative and the Route Alternative would not traverse the RV and trailer park area; therefore, impacts would be less than under the Applicants' Proposed Action and the 230-kV Alternative.

Geology, Paleontology, Seismicity, and Soils: There are no unique or important geologic features within the project area. All of the action alternatives would use locally abundant sand and gravel resources to make concrete footings for the transmission support structures; the routes would be located near, but not within, an active sand and gravel operation. Geologic and seismic risks are well-understood and are addressed by building codes and utility industry standards. To minimize potential damage from earth shaking, structures would be constructed and maintained to Federal Uniform Building Code standards for Zone 4 areas, the highest category of risk for seismic activity. Structures would be designed to withstand an earthquake measuring 8.0 on the Richter scale. The potential for direct geologic or seismic impacts under all action alternatives would, thus, be mitigated by proper engineering design and construction of all proposed project structures. Although vegetation clearing and soil disruption during construction would result in an increased potential for wind and water erosion of surface soils, none of the action alternatives would result in appreciable soil erosion.

Water Resources: Under all alternatives, the SLRC Power Center would obtain its potable water by converting an existing groundwater withdrawal from agricultural irrigation use to power plant use, so there would be no change in the pumping or consumptive use of groundwater. Cooling water for the proposed power plant would be obtained from the San Luis Rio Colorado municipal wastewater treatment plant in Mexico, so there would be no effect on water resources in the United States.

Temporary sedimentation of water resources resulting from transmission line construction would be managed by erosion control measures required pursuant to a Storm Water Pollution Prevention Plan, such that construction under any of the action alternatives would not result in discharges of contaminants or sediment into water or watercourses or substantially alter the flow of a water body. A “Waters of the United States” delineation and characterization survey was completed for DOE's Preferred Alternative and the report was submitted to the U.S. Army Corps of Engineers (USACE) for review. In a letter dated March 1, 2007, USACE determined that DOE's Preferred Alternative would not discharge dredged or fill material into a water of the United States or adjacent wetland. Therefore, the Preferred Alternative will not require a permit under Section 404 of the Clean Water Act or a Section 401 water quality certification.

Temporary dewatering of the ground might be necessary during construction in the Gila Valley under any of the action alternatives due to high groundwater levels, but dewatering would be short-term and localized, and the water would be returned to the ground, thus it would not substantially deplete groundwater resources.

Air Quality Impacts within the United States: Assessment of potential impacts to air quality considered impacts in the United States from activities both within the United States (transmission line construction) and outside the United States (construction and operation of the associated SLRC Power Center in Mexico). For all action alternatives, construction and maintenance of the proposed transmission line and associated modifications at the Gila Substation would generate fugitive dust from construction activities and emissions from motor vehicles. With proposed dust control mitigation, these impacts would be temporary and minor. Emissions of PM10 (i.e., particles less than 10 microns in diameter) within the Yuma PM10 non-attainment area would be 22 tons per year, which is 0.2 percent of total PM10 emissions for Yuma County, and is below the 100 tons-per-year threshold for applicability of Clean Air Act general conformity requirements. Therefore, there would be no issue with regard to conformity with State air quality implementation plans.

For all alternatives, including the No Action Alternative, dispersion modeling results indicate that ambient air quality impacts in the United States from the SLRC Power Center located in Mexico would be low relative to both the National Ambient Air Quality Standards (NAAQS) and the Prevention of Significant Deterioration criteria. The estimated contribution from the SLRC Power Center would be no higher than 0.3 percent of the NAAQS for any pollutant. The effects of anticipated SLRC Power Center emissions combined with the existing background levels would be below 20 percent of the annual NAAQS for any pollutant, except PM10. PM10 is of particular concern because the area of the proposed project has been designated a non-attainment area for PM10 due to the high existing background levels. However, monitoring has demonstrated compliance with the NAAQS standard for PM10 since 1990 and the results of dispersion modeling have demonstrated that anticipated SLRC Power Center PM10 emissions combined with the existing background levels would result in concentrations of 78 percent of the annual NAAQS.

Global Climate Change and Carbon Dioxide Emissions

Climate change has evolved into a matter of global concern because it is expected to have widespread adverse effects on natural resources and systems. A growing body of evidence points to anthropogenic (man-made) sources of greenhouse gases (GHGs), such as carbon dioxide (CO2), as major contributors to climate change. Here, DOE's decision to permit a transmission line and grant an interconnection does not itself authorize activities that emit CO2 or any other GHG. However, the SLRC Power Center, where the proposed transmission line would originate, does emit CO2. The SLRC Power Center is not a “connected action” because it is not dependent on the Proposed Action. Further, it is located in Mexico and, as such, its construction and operation are not subject to NEPA.

Nonetheless, DOE has examined impacts to the United States from the SLRC Power Center in the Final EIS.

Impacts of Climate Change on the Environment

According to the Intergovernmental Panel on Climate Change (IPCC) Fourth Assessment Report (IPCC Report), published in 2007, global climate change is consistent with observed changes to the world's natural systems and the IPCC expects these changes to continue.

Changes that are consistent with global warming include warming of the world's oceans to a depth of 3,000 meters (9,840 feet); global average sea level rise at an average rate of 1.8 mm (0.07 inches) per year from 1961 to 2003; loss of annual average Arctic sea ice at a rate of 2.7 percent per decade, changes in wind patterns that affect extra-tropical storm tracks and temperature patterns, increases in intense precipitation in some parts of the world, as well as increased drought and more frequent heat waves in many locations worldwide, and numerous ecological changes.

Looking forward, the IPCC describes continued global warming of about 0.2 °C (0.36 °F) per decade for the next two decades under a wide range of emission scenarios for carbon dioxide (CO2), other GHGs, and aerosols. After that period, the rate of increase is less certain. The IPCC Report describes increases in average global temperatures of about 1.1 °C (1.98 °F) to 6.4 °C (11.52 °F) at the end of the century relative to today. These increases vary depending on the model and emissions scenarios.

Causes of Global Climate Change

The IPCC Report states that the world has warmed by about 0.74 °C (1.33 °F) in the last 100 years. The IPCC Report finds that most of the temperature increase since the mid-20th century is very likely due to the increase in anthropogenic emissions of CO2 and other long-lived GHGs such as methane and nitrous oxide in the atmosphere, rather than from natural causes.

The IPCC Report estimates that CO2 makes up about 77 percent of the total CO2-equivalent ³ global warming potential in GHGs emitted from human activities, with the vast majority (74 percent) of the CO2 attributable to fossil fuel use. For the future, the IPCC Report describes a wide range of GHG emissions scenarios, but under each scenario CO2 would continue to comprise above 70 percent of the total global warming potential.

³ GHGs differ in their global warming potential (GWP; radiative forcing) on a global climate system due to their different radiative properties and lifetimes in the atmosphere. These warming influences may be expressed through a common metric based on the radiative forcing of CO2, i.e., CO2-equivalent. CO2-equivalent emission is the amount of CO2 emission that would cause the same-time integrated radiative forcing, over a given time horizon, as an emitted amount of other long-lived GHG or mixture of GHGs. Accordingly, for comparative purposes, the GWP of CO2 is normalized to 1, against which all other GHG are measured. For example, as compared to CO2, the GWP of methane (CH4) over a 100-year time horizon is 25, for nitrous oxide (N2O) is 298, and for sulfur hexafluoride (SF6) is 22,800.

The Incremental Impact of the SLRC Project on Global Climate Change

The SLRC Power Center would generate a maximum of 1.3 million metric tons of CO2 per year. The United States' CO2 emissions from energy consumption were estimated by DOE's Energy Information Administration (EIA) to be about 5.9 billion metric tons in 2006, about 15 percent of which comes from combustion of natural gas.

Based on EIA information, the CO2 emissions from the SLRC Power Center would represent about 0.0000026 percent (2.6 × 10⁻⁶ percent), or 2.6 millionths of one percent of the estimated 49 billion metric tons of global anthropogenic emissions of CO2.

It is difficult to correlate specific emission rates with atmospheric concentrations of CO2 and specific atmospheric concentrations with future temperatures because the IPCC Report describes a clear lag in the climate system between any given concentration of CO2 (even if maintained for long periods) and the subsequent average worldwide and regional temperature, precipitation, and extreme weather regimes. For example, a major determinant of climate response is “equilibrium climate sensitivity,” a measure of the climate system response to sustained radiative forcing. It is defined as the global average surface warming following a doubling of carbon dioxide concentrations. The IPCC Report describes its estimated, numeric value as about 3 °C (5.40 °F), but the likely range of that value is 2 °C (3.60 °F) to 4.5 °C (8.10 °F), with cloud feedbacks the largest source of uncertainty. Thus, climate sensitivity is a key uncertainty for CO2 mitigation scenarios that aim to meet specific temperature levels.

Because of the complexity of global climate systems, it is difficult to know to what extent and when particular CO2 emissions rates will impact global warming, much less to foresee how this contribution to warming will impact the United States. However, the SLRC Power Center does contribute CO2 emissions that will have an incremental impact on global CO2 emissions, however small. Those emissions will, in combination with global CO2 emissions from a variety of different sources, very likely impact global warming and its related environmental impacts. As such, even though it is not currently possible to measure the degree of impact that the SLRC Power Center's emissions has on climate change, or where the related environmental impacts will occur, those emissions may contribute to climate change and its related environmental impacts. Some of those impacts very likely will occur in the United States.

Biological Resources: Impacts to biological resources from the 230-kV Alternative and the DOE Preferred Alternative would be similar to, but slightly less than, those from the Applicants' Proposed Action and the Route Alternative because the ROW would be narrower and the area of the structural footprint would be slightly smaller. Impacts to specific biological resources are described below.

Vegetation

All of the action alternatives would cause some disturbance to vegetation, but the disturbance would be a small fraction of the total area of similar resources in the immediate proposed project area. Construction of any of the action alternatives would neither result in the long-term loss of riparian vegetation, nor result in a long-term loss of habitat causing the listing of, or jeopardizing the continued existence of, any plant species. Overall, the construction of the DOE Preferred Alternative would have the lowest level of impacts on vegetation resources among the action alternatives because it would have a narrower ROW and smaller footprint of disturbance than a 500-kV line and fewer new access roads than would be needed along the alignment of the Applicants' Proposed Action.

Special Status Species

The flat-tailed horned lizard is identified as a species of concern by the U.S. Fish and Wildlife Service (FWS) of the U.S. Department of the Interior, a BLM sensitive species, and an Arizona Game and Fish Department wildlife species of special concern. The relevant regulatory agencies have authorized only minimal surface disturbing activities in the Yuma Desert FWS Flat-Tailed Horned Lizard Management Area (FTHL MA), which is in the western part of the BMGR and adjacent BOR land, in order to conserve sufficient habitat to maintain viable populations of this species. The Route Alternative and the DOE Preferred Alternative use more existing access roads than the Applicants' Proposed Action and the 230-kV Alternative in the FTHL MA, thus resulting in less impact on this area. The Route Alternative and the DOE Preferred Alternative would permanently disturb 0.07 acres in the FTHL MA from the steel monopoles, as compared to 0.15 acres for the Applicants' Proposed Action and the 230-kV Alternative.

All of the action alternatives would avoid construction at the Gila River crossing during nesting season of two endangered birds, the Yuma clapper rail and southwestern willow flycatcher. All of the action alternatives would also incorporate mitigation identified in the FTHL Rangewide Management Strategy of the FWS.

All action alternatives would be sited and constructed following the guidelines of the Avian Powerline Interaction Committee (http://www.aplic.org) for standard raptor protection (i.e., a horizontal separation of 60 inches and a vertical separation of 48 inches).

A Biological Assessment for compliance with Section 7 of the Endangered Species Act was prepared and submitted to the FWS with a determination that the Proposed Project “may affect but is not likely to adversely affect” any candidate, proposed, or listed species. In a reply dated March 26, 2007, FWS concurred with this determination.

Cultural Resources: For all of the action alternatives, impacts to cultural resources such as prehistoric properties, historic properties, and cultural landscapes could not be determined until a 100-percent Class III cultural resources survey as defined by the NHPA is available. The applicant has submitted a draft survey report for the DOE Preferred Alternative, but it has not been issued in final form as of this writing. DOE's mitigation goal is to avoid any identified sites. A Programmatic Agreement has been developed and signed by Western, the Arizona State Historic Preservation Office, affected Federal agencies, the Applicants, and the 22 interested Native American Tribes. Compliance with the Programmatic Agreement provisions would ensure that requirements of Section 106 (Protection of Historic Properties) of NHPA are met.

Transportation: For all action alternatives, use of local highways during construction would result in a less than one percent increase in annual average daily vehicular traffic. All of the action alternatives would be sited to avoid adverse impact to the civilian-use aviation corridor, which is located in open space between the areas of restricted airspace associated with the Marine Corps Air Station Yuma/Yuma International Airport and the BMGR. The Applicants' Proposed Action and the 230-kV Alternative would go through the intersection of County 19th and Avenue 4E. In that location transmission support structures would have to be taller to comply with safety clearances for the proposed County 19th overpass of the planned Area Service Highway (ASH) ⁴. Support structures of that height would, however, conflict with military aviation operations within the area. The lower structures that would be used for the 230-kV Alternative would result in the same conflicts. Either conflict would, thus, result in a significant transportation impact from the Applicants' Proposed Action and the 230-kV Alternative. The Route Alternative and the DOE Preferred Alternative would avoid that intersection and would thus avoid these conflicts.

⁴ The Yuma Area Service Highway (ASH) is a proposed direct transportation route between the Greater Yuma Port Authority's future commercial International Port of Entry (POE) near San Luis, Arizona, and Interstate 8 (I-8). Greater detail is available at http://www.azdot.gov/EEG_common/documents/files/planning/195_ash_highway/fonsi_main_text.pdf.

Visual Resources: For the majority of the proposed alignments under both the Applicants' Proposed Action and the Route Alternative, the transmission facilities would not substantially modify the overall existing visual character of the area. Visual changes would remain subordinate within the existing visual landscape. There is an area of increased viewer sensitivity near the northwest corner of the BMGR. However, because the Applicants are proposing to use steel monopoles as support structures for the entire length of the proposed project, the impacts to this visually sensitive area are expected to be minimal. The Route Alternative would be farther from this area of increased sensitivity than the Applicants' Proposed Action and would thus appear smaller and be less noticeable. For the 230-kV Alternative and the DOE Preferred Alternative, impacts would be less than for the other action alternatives because structures would be 25 feet shorter and less massive than 500-kV structures. Thus, the DOE Preferred Alternative would have overall lower visual impacts than the other action alternatives.

Noise: The estimated construction noise level from the Applicants' Proposed Action and the 230-kV Alternative at the nearest existing residence, 420 feet away, would be 65.6 dBA. For the Route Alternative and the DOE Preferred Alternative, the estimated construction noise level at the nearest existing residence, 145 feet away, would be 74.8 dBA. (As a point of reference, busy traffic has a noise level of about 75 dBA.) EPA has established 70 dBA as the highest level of environmental noise that will prevent any measurable hearing loss over the course of a lifetime. Construction noise levels at the nearest existing residence would be reduced below 70 dBA by designing the transmission line such that structures would be sited and construction activities would occur a minimum of 260 feet away from that residence. Under all action alternatives construction noise from substation modifications would be 61.9 dBA at the nearest residence, which is 642 feet away. Construction noise under all action alternatives would be temporary and with the careful siting of transmission structures would not be significant.

Socioeconomics: Due to the small construction workforce (30 to 40 workers) and availability of existing resources, impacts from all the action alternatives to population size, housing availability, employment and pay rates, governmental services, and infrastructure services would be minimal. An increase to the local economy would be expected from any action alternative of about $4.7 million for the year of construction ($3.2 million for payroll and $1.5 million for materials).

Environmental Justice: For all of the action alternatives, no minority or low-income populations within the area of influence were identified based on Council on Environmental Quality (CEQ) criteria (Environmental Justice Guidance Under the National Environmental Policy Act, 1997; http://www.nepa.gov). There would be no disproportionately high and adverse impacts to minority or low-income populations.

Health and Safety

Electric and Magnetic Fields

No Federal regulations have been established specifying environmental limits on the strengths of electric and magnetic fields from electric transmission lines. Under the Applicants' Proposed Action and the Route Alternative, the electric field of the 500-kV transmission line on and at the edge of the ROW would be higher than that for the 230-kV lines under the other action alternatives. Human health and safety impacts from electric and magnetic fields remain controversial, but field strengths decrease rapidly with distance, such that they are expected to pose little or no increased exposure at and beyond the edge of the ROW for all action alternatives.

Worker Health and Safety

For all action alternatives, worker health and safety impacts from the construction, operation, and maintenance of the proposed project would be related to typical work-related injuries and fugitive dust. Risk associated with the action alternatives would be minimized through facility design, safe work practices, and continuous maintenance in compliance with Occupational Safety and Health Administration and State of Arizona regulations.

Public Health and Safety

For all action alternatives temporary fences would be placed wherever feasible to control public access to construction areas. In addition, construction equipment would be secured at night. Therefore, the potential for injury due to trespassing in construction areas would be minimal.

Environmentally Preferable and DOE Preferred Alternative

As described above, in the process of preparing the Draft EIS, DOE identified a combination of the Route Alternative and the 230-kV Alternative as both the Environmentally Preferable Alternative and also the DOE Preferred Alternative. In this case, the DOE Preferred Alternative would adopt the route from the Route Alternative as described in the EIS and be constructed to 230-kV standards. The Applicants' Proposed Action was not selected as the DOE Preferred Alternative because of higher impacts on flat-tailed horned lizard habitat, increased engineering constraints, and increased visual impacts on residential dwellers as compared to the DOE Preferred Alternative.

Comments Received on the Final EIS

After publication of the Final EIS, three additional comments were received that expressed concerns about property values, visual impacts, lack of notification about the Applicant's Proposed Action, and potential interference with radio, television, and amateur radio signal reception and transmission. Property value issues are addressed in the EIS; potential effects generally range from somewhat positive to a negative impact of up to 15 percent. Studies find that property value impacts can be quite different from case to case, and that perceptions of impacts on value vary depending on the individual. Furthermore, the presence of a transmission line is generally not the major determinant of property values, and any impact of its existence generally diminishes over time.

Visual impacts are also addressed in the EIS and are closely linked to property value concerns. Like perceptions of property value impacts, visual impacts are also highly subjective, depending on the individual. DOE conducted a visual impact analysis using the BLM Visual Resource Management (VRM) system to determine the level of visual impact. The VRM system imposes a somewhat artificial structure on very subjective visual values, and looks at visual impacts from more of a societal view. However, the VRM system is the best and most widely accepted tool now available for impartial analysis of visual impacts. The analysis found that visual impacts would result from constructing the Proposed Project, but that they would not be significant. However, due to the subjective nature of visual impacts and personal perceptions, DOE acknowledges that some residents may consider the impact of the proposed project on them to be more significant than on others.

A few comments were received from residents who had not previously heard about the project, and who felt they had not had the opportunity for meaningful input. Following the 2006 issuance of the NOI, DOE held 12 stakeholder meetings, four public scoping meetings, and two public hearings in the area that would be affected by the “Applicants” Proposed Action.” The public scoping meetings were announced in the Federal Register, paid advertisements in the Yuma Sun and Bajo el Sol, and direct newsletter/local NOI mailings in both English and Spanish to the project mailing list. Additional paid advertisements and direct mailings announced the public hearings. In addition, the Yuma Sun published several articles, editorials, and letters to the editor about the proposed project during the EIS process. The project mailing list included landowners up to 0.5 miles from the centerline of all identified alternative routes, as identified from the county assessor records. The mailing list was updated as new mailings were prepared. While DOE regrets that some residents feel that they were not effectively notified, it believes that its public outreach effort was adequate.

Potential interference with radio and television transmission and reception is also addressed in the EIS. Most cases of interference are directly related to spark gap discharges, also known as coronal discharges, due to loose, worn, or defective transmission line hardware. Western operates about 17,000 miles of transmission lines, and interference issues are rarely reported. In the unlikely event that an interference problem is encountered, Western has committed in its ROD to work with the affected party to eliminate the interference (72 FR 58074).

The Environmental Protection Agency did not comment on the Final EIS, and the proposed project has not been controversial beyond the concerns of local residents and property owners.

Mitigation Measures

All mitigation measures identified in the EIS to minimize impacts from the transmission system additions are adopted in this ROD. Sections 2.1.1.8 and 2.1.1.9 of the EIS list Western's standard mitigation measures and additional mitigation measures included as part of the DOE Preferred Alternative. Some of Western's standard measures include restricting vehicular traffic to existing access roads or public roads, recontouring and reseeding disturbed areas, environmental awareness training for all construction and supervisory personnel, and mitigation of radio and television interference generated by transmission lines. Additional measures identified for the DOE Preferred Alternative include mitigation methods within flat-tailed horned lizard habitat and measures identified in the Arizona Administrative Code pertaining to fugitive dust control to be employed during transmission line construction.

Western is the lead DOE element for compliance with Section 106 of the NHPA. Western's preferred form of mitigation for cultural resources is to avoid all identified sites. To the extent possible, cultural sites determined eligible for the National Register of Historic Places in consultation with the Arizona State Historic Preservation Office and interested tribes will be avoided by the DOE Preferred Alternative project activities. Impacts on cultural sites that cannot be avoided will be mitigated in accordance with the Programmatic Agreement developed for the DOE Preferred Alternative, which will govern all remaining activities necessary for Section 106 compliance.

Mitigation Action Plan

Although Western stated in its 2007 ROD an intention to prepare a mitigation action plan to explain how mitigation will be planned and implemented, DOE has now determined that a mitigation action plan is not needed because the mitigation measures identified in the Western ROD and above either have been incorporated into the selected alternative or are included among Western's standard construction practices.

Floodplain Statement of Findings

In accordance with 10 CFR Part 1022, OE considered the potential impacts of the DOE Preferred Alternative on floodplains and wetlands. The DOE Preferred Alternative project area is located in an arid region of low annual precipitation (less than 4 inches annually) with relatively low runoff potential, currently consisting primarily of open desert and agriculture interspersed with residences. Construction of the DOE Preferred Alternative would not substantially alter the normal drainage patterns or affect runoff rates because the DOE Preferred Alternative project area typically does not experience runoff following a heavy rainfall due to the soils and geology of the area.

All transmission system alternatives, including the DOE Preferred Alternative, would traverse the 100-year floodplain of the Gila River. DOE has found no practical alternative to locating or conducting the action in the floodplain. The DOE Preferred Alternative will be designed to span the width of the 100-year floodplain; accordingly, no new structures are expected to be placed within the Gila River channel or associated 100-year floodplain. If transmission would be consolidated and a 69-kV circuit underbuilt on the proposed transmission line, removal of two existing 69-kV transmission line structures would result in a temporary disturbance of the Gila River floodplain, but this would have no impact on the normal flow of the water body and would remove objects currently within the floodplain. Structures located adjacent to the floodplain would be constructed with additional concrete reinforcement around the footing to withstand potential flood flow-rates. The footings would not present a barrier to flood flows if they should exceed the 100-year floodplain and reach these locations. If, after final project design, additional new structures are needed in the floodplain, they will be designed to conform to applicable Federal, State, and local floodplain protection standards. No wetlands would be affected by the DOE Preferred Alternative.

Decision

OE has decided to issue Presidential Permit PP-304 authorizing GDD to construct, operate, maintain, and connect a 230-kV electric transmission line across the U.S.-Mexico border along the Route Alternative identified and analyzed in the EIS. This action is identified as the DOE Preferred Alternative in the EIS. The Presidential Permit will require GDD to implement all of Western's standard and additional mitigation measures which are described in Sections 2.1.1.8 and 2.1.1.9 of the EIS.

Basis for Decision

In reaching this decision, DOE considered the low environmental impacts in the U.S. from constructing, operating, maintaining, and connecting the proposed international transmission line and from the construction and operation of the associated Mexico power plant, the absence of adverse impacts to the reliability of the U.S. electric power supply system, and the absence of major issues of concern to the public.

OE has determined that the potential impacts from the DOE Preferred Alternative, i.e., the Route Alternative combined with the transmission line constructed to 230-kV standards (the 230-kV Alternative), and with implementation of the stipulated mitigation measures, are expected to be small, as discussed above, and overall less than the expected impacts from any of the other alternatives except the No Action Alternative, which would deny the issuance of the Presidential Permit, hence prohibiting construction of the line across the international border. OE did not select the No Action Alternative because it would neither satisfy the Applicants' stated purpose and need nor address the need for additional transmission capacity in the region. Also, the DOE Preferred Alternative has been determined to be consistent with the public interest based on the consideration of environmental impacts, the lack of adverse impacts on electric reliability, and the favorable recommendations of the Departments of State and Defense.

In reaching this decision, OE also considered the project's impact on electric reliability by ascertaining whether the proposed project would adversely affect the operation of the U.S. electric power supply system under normal and contingency conditions. In reaching this determination, DOE considered the information contained in the System Impact Study dated June 25, 2007, which was submitted by the Applicants in support of their application for a Presidential Permit. The results of the System Impact Study indicate that the proposed international transmission line is capable of delivering the entire electrical output of the SLRC without violating any industry-established reliability criteria provided that the transmission line and the SLRC are operated consistent with the operating nomograms and remedial action schemes ⁵ that will be developed by Western during the Project's Operating Studies prior to energizing the proposed transmission line. The Presidential Permit to be issued to GDD will contain a condition requiring it to adhere to these operating requirements.

⁵ Nomograms and remedial action schemes are operating procedures that establish limits on the amount of electric power that may be transmitted over a particular transmission line or produced by a generating unit under varying electric system conditions of load and equipment availability. These operating procedures establish a means of avoiding or mitigating any reliability problems that are expected to exist under various system contingencies.

For the foregoing reasons, OE has decided to issue Presidential Permit PP-304 to authorize GDD to construct, operate, maintain, and connect the San Luis Rio Colorado Project across the international border at the 230-kV operating voltage level along the Route Alternative as defined in the EIS, with the mitigation conditions noted above.

Dated: August 15, 2008.
Kevin M. Kolevar,
Assistant Secretary, Office of Electricity Delivery and Energy Reliability.

[FR Doc. E8-19392 Filed 8-20-08; 8:45 am]

BILLING CODE 6450-01-P